SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: March 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects described below, pursuant to 18 CFR part 806, subpart E, for the time period specified above:

1. Pennsylvania Department of Human Services—Selinsgrove Center, GF Certificate No. GF-202403271, Penn Township, Snyder County, Pa.; Wells 3 and 7; Issue Date: March 8, 2024.

2. Spring Glen Fresh Foods, Inc.—Ephrata Plant, GF Certificate No. GF-202403272, Ephrata Township, Lancaster County, Pa.; consumptive use; Issue Date: March 8, 2024.

3. The Club at Shepherd Hills, LLC, GF Certificate No GF-202403273, Village of Waverly, Tioga County, N.Y.; consumptive use; Issue Date: March 8, 2024.

4. Down River Golf and Country Club, Inc. dba Down River Golf Course, GF Certificate No. GF-202403274, Everett Borough, Bedford County, Pa.; consumptive use; Issue Date: March 11, 2024.

5. Tallman Family Farms, L.L.C., GF Certificate No. GF-202403275, Porter Township, Schuylkill County, and Washington Township, Dauphin County, Pa.; Wiconisco Creek #2, Bohr Pond, and Wiconisco Creek GET ZIM; Issue Date: March 11, 2024.

6. U.S. Silica Company—Mapleton Plant, GF Certificate No. GF-202403276, Brady Township, Huntingdon County, Pa.; Juniata River, Quarry Sump, and consumptive use; Re-Issue Date: March 18, 2024.

Authority: Public Law 91-575, 84 Stat. 1509 et seq., 18 CFR parts 806 and 808.

Dated: April 9, 2024.
Jason E. Oyler,
General Counsel and Secretary to the Commission.

[FR Doc. 2024-07830 Filed 4-11-24; 8:45 am]

BILLING CODE 7040-01-P